DEPARTMENT OF HEALTH AND HUMAN SERVICES

Centers for Medicare & Medicaid Services

[CMS Computer Match No. 2013-12; HHS Computer Match No. 1307; SSA Computer Match No. 1097-1899]

Privacy Act of 1974

AGENCY: Centers for Medicare & Medicaid Services (CMS), Department of Health and Human Services (HHS).

ACTION: Notice of Modification of Existing Computer Matching Program (CMP).

SUMMARY: In accordance with the requirements of the Privacy Act of 1974 (5 U.S.C. 552a), as amended, CMS proposes the following modifications to the existing CMP “Computer Matching Agreement between the Department of Health and Human Services, Centers for Medicare & Medicaid Services and the Social Security Administration for Determining Enrollment or Eligibility for Insurance Affordability Programs under the Patient Protection and Affordable Care Act”, CMS Computer Match No. 2013-12, HHS Computer Match No. 1307, SSA Computer Match No. 1097-1899, published at 78 FR 48170 (August 7, 2013):

1. Add a statement that CMS is responsible for providing and publishing notice of any modification of the matching program;

2. Add Quarters of Coverage to the list of data elements that SSA will provide to CMS; add qualifiers, so that the response that SSA will provide to CMS is limited to data elements that are “relevant and responsive to CMS' request;” and

3. Increase two estimates (total number of batch transactions in 2014, and total number of batch transactions in the highest month in 2014) to update the number of transactions approximated for Fiscal Year 2014.

DATES: Effective Dates: Comments are invited on all portions of this notice. Public comments are due 30 days after publication. The modifications to the existing matching program will become effective no sooner than 40 days after the report of the modifications is sent to the Office of Management and Budget (OMB) and Congress, or 30 days after publication in the Federal Register, whichever is later.

ADDRESSES: The public should send comments to: CMS Privacy Officer, Division of Privacy Policy, Privacy Policy and Compliance Group, Office of E-Health Standards & Services, Offices of Enterprise Management, CMS, Room S2-24-25, 7500 Security Boulevard, Baltimore, Maryland 21244-1850. Comments received will be available for review at this location, by appointment, during regular business hours, Monday through Friday from 9:00 a.m.-3:00 p.m., Eastern Time zone.

FOR FURTHER INFORMATION CONTACT: Aaron Wesolowski, Director, Verifications Policy & Operations Branch, Division of Eligibility and Enrollment Policy and Operations, Center for Consumer Information and Insurance Oversight, CMS, 7501 Wisconsin Avenue, Bethesda, MD 20814, Office Phone: (301) 492-4416, Facsimile: (443) 380-5531, E-Mail: Aaron.Wesolowski@cms.hhs.gov

SUPPLEMENTARY INFORMATION: CMS proposes to modify the existing CMP as follows:

1. Revise the “Responsibilities of the Parties” section at IV.A.6. to add that CMS will be responsible for providing and publishing “notice of any modification of this Matching Program”;

2. Revise the “Description of Matched Records” section at VI.B.5. by adding Quarters of Coverage to the list of data elements provided by SSA; and to replace the phrase “SSA will provide CMS a response including” with the more limiting phrase “Depending on CMS's request, SSA's response will include each of the following data elements that are relevant and responsive to CMS's request”; and

3. Revise the chart in the “Description of Matched Records” section at VI.C. to reflect updated estimates of the (1) total number of batch transactions in 2014 (increasing the estimate from 5.6 million to 18,166,666) and (2) total number of batch transactions in the highest month in 2014 (increasing the estimate from 5.6 million to 11,883,333).

The proposed modifications to the existing matching program meet the requirements of the Privacy Act of 1974, as amended.

Dated: June 2, 2014.
David Nelson,
Deputy Chief Operating Officer, Centers for Medicare & Medicaid Services.

CMS Computer Match No. 2013-12

HHS Computer Match No. 1307

SSA Computer Match No. 1097-1899

NAME:

“Modification to Computer Matching Agreement between the Department of Health and Human Services, Centers for Medicare & Medicaid Services and the Social Security Administration for Determining Enrollment or Eligibility for Insurance Affordability Programs under the Patient Protection and Affordable Care Act”

SECURITY CLASSIFICATION:

Unclassified

PARTICIPATING AGENCIES:

Department of Health and Human Services (HHS), Centers for Medicare & Medicaid Services (CMS), and the Social Security Administration (SSA)

AUTHORITY FOR CONDUCTING MATCHING PROGRAM:

The modifications to the existing CMP are executed to comply with the provisions of the Privacy Act of 1974 (5 U.S.C. 552a), as amended, OMB Circular A-130, titled “Management of Federal Information Resources” at 61 Federal Register (FR) 6428-6435 (February 20, 1996), and OMB guidelines pertaining to computer matching at 54 FR 25818 (June 19, 1989) and 56 FR 18599 (April 23, 1991); and the computer matching portions of Appendix I to OMB Circular No. A-130, as amended at 61 FR 6428 (February 20, 1996).

Sections 1411 and 1413 of the Patient Protection and Affordable Care Act of 2010 (Pub. L. 111-148), as amended by the Health Care and Education Reconciliation Act of 2010 (Pub. L. 111-152) (collectively, the ACA) require the Secretary of HHS to establish a program for determining eligibility for certain Insurance Affordability Programs, certifications of Exemption, and authorize use of secure, electronic interfaces and an on-line system for the verification of eligibility. Pursuant to 5 U.S.C. 552(b)(3) Federal agencies, such as HHS/CMS and SSA, may disclose information from their SORs under a routine use.

PURPOSE(S) OF THE MATCHING PROGRAM:

SSA and HHS/CMS are parties to a Computer Matching and Privacy Protection Act Agreement, CMS Agreement No. 2013-12, HHS Agreement No. 1307, SSA Agreement No. 1097-1899 (the Agreement), regarding the terms, conditions, safeguards, and procedures under which SSA will disclose information to CMS in connection with the administration of Insurance Affordability Programs under the Patient Protection and Affordable Care Act of 2010 (Pub. L. 111-148), as amended by the Health Care and Education Reconciliation Act of 2010 (Pub. L. 111-152) (collectively, the ACA) and its implementing regulations. Under the Agreement, SSA will provide data to CMS and CMS will use SSA data needed to make initial Eligibility Determinations, Eligibility Redeterminations and Renewal decisions, including appeal determinations, for Insurance Affordability Programs (as defined under the Agreement) and Certifications of Exemption.

DESCRIPTION OF RECORDS TO BE USED IN THE MATCHING PROGRAM:

The matching program is conducted with data maintained by CMS in the Health Insurance Exchanges System (HIX), CMS System No. 09-70-0560, as amended, published at 78 FR 8538 (Feb. 6, 2013), 78 FR 32256 (May 29, 2013) and 78 FR 63211 (October 23, 2013).

The matching program is also conducted with data maintained by SSA in the following SORs:

• Master Files of SSN Holders and SSN Applications, SSA/OEEAS, 60-0058, 75 FR 82121 (December 29, 2010), as amended 78 FR 40542 (July 5, 2013);

• Prisoner Update Processing System (PUPS), SSA/OPB, 60-0269, 64 FR 11076 (March 8, 1999), as amended 72 FR 69723 (December 10, 2007) and 78 FR 40542 (July 5, 2013);

• Master Beneficiary Record, SSA/ORSIS, 60-0090, 71 FR 1826 (January 11, 2006), as amended 72 FR 69723 (December 10, 2007) and 78 FR 40542 (July 5, 2013);

• Earnings Recording and Self-Employment Income System, SSA/OEEAS, 60-0059, 71 FR 1819 (January 11, 2006), as amended 78 FR 40542 (July 5, 2013).

INCLUSIVE DATES OF THE MATCH:

The modifications to the CMP shall become effective no sooner than 40 days after the report of the modifications to the matching program is sent to OMB and Congress, or 30 days after publication in the Federal Register, whichever is later. The modifications to the existing matching program will continue for the duration of the Agreement and may be extended for an additional 12 months thereafter, if certain conditions are met.

[FR Doc. 2014-13249 Filed 6-5-14; 8:45 am]

BILLING CODE 4120-03-P